INTERNATIONAL TRADE COMMISSION

Inv. No. 337-TA-773

In the Matter of Certain Motion-Sensitive Sound Effects Devices and Image Display Devices and Components and Products Containing Same; Notice of Investigation

Institution of investigation pursuant to 19 U.S.C. 1337

AGENCY: U.S. International Trade Commission.

ACTION: Notice.

SUMMARY: Notice is hereby given that a complaint was filed with the U.S. International Trade Commission on April 1, 2011, under section 337 of the Tariff Act of 1930, as amended, 19 U.S.C. 1337, on behalf of Ogma, LLC of Longview, Texas. An amended complaint was filed on April 26, 2011, and a supplement was filed on May 5, 2011. The amended complaint alleges violations of section 337 based upon the importation into the United States, the sale for importation, and the sale within the United States after importation of certain motion-sensitive sound effects devices and image display devices and components and products containing same by reason of infringement of certain claims of U.S. Patent No. 6,150,947 (“the `947 patent”) and U.S. Patent No. 5,825,427 (“the `427 patent”). The amended complaint further alleges that an industry in the United States exists as required by subsection (a)(2) of section 337.

The complainant requests that the Commission institute an investigation and, after the investigation, issue an exclusion order and cease and desist orders.

ADDRESSES: The amended complaint and supplement, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on May 12, 2011, ordered that—

(1) Pursuant to subsection (b) of section 337 of the Tariff Act of 1930, as amended, an investigation be instituted to determine whether there is a violation of subsection (a)(1)(B) of section 337 in the importation into the United States, the sale for importation, or the sale within the United States after importation of certain motion-sensitive sound effects devices and image display devices and components and products containing same that infringe one or more of claims 1, 6, 7, and 9, of the `947 patent and claims 1-3 of the `427 patent, and whether an industry in the United States exists as required by subsection (a)(2) of section 337;

(2) For the purpose of the investigation so instituted, the following are hereby named as parties upon which this notice of investigation shall be served:

(a) The complainant is: Ogma, LLC, 3301 W. Marshall Ave., Longview, TX 75604.

(b) The respondents are the following entities alleged to be in violation of section 337, and are the parties upon which the amended complaint is to be served:

Activision Blizzard, Inc., 3100 Ocean Park Blvd., Santa Monica, CA 90405.

Canon, Inc., 30-2, Shimomaruko 3-chome Ohta-ku, Tokyo 146-8501, Japan.

Canon USA, Inc., One Canon Plaza, Lake Success, NY 11042.

Jakks Pacific, Inc., 22619 Pacific Coast Highway, Malibu, CA 90265.

Kyocera Communications, Inc. 9520 Towne Centre Drive, San Diego, CA 92121.

LEGO A/S dba LEGO Group, Aastvej 1, Dk-7190 Billund, Denmark.

LEGO Systems, Inc., 555 Taylor Road, Enfield, CT 06082.

Lenovo (United States), Inc., 1009 Think Place, Morrisville, NC 27560.

Lenovo Group Ltd., No. 6 Chuang Ye Road, Shangdi Information Industry Base, Haidian District, Beijing 100085, China.

Lenovo (Singapore) Pte. Ltd., New Tech Park, 151 Lorong, Chuan, (S) 556741 at Serangoon Garden, Singapore.

Mad Catz, Inc., 7480 Mission Valley Road, Suite 101, San Diego, CA 92108.

Nintendo Co., Ltd., 11-1 Kamitoba-hokotate-cho, Minami-ku. Kyoto 601-8501, Japan.

Nintendo of America, Inc., 4600 150th Avenue NE., Redmond, WA 98052.

Nyko Technologies, Inc., 1990 Westwood Blvd., 3rd Floor, Los Angeles, CA 90025.

Sony Ericsson Mobile Communications (USA), Inc., 3333 Piedmont Road, Suite 600, Atlanta, GA 30305.

Sony Ericsson Mobile Communications AB, Nya Vattentornet SE-221, 88 Lund, Sweden.

Vivitek Corporation, 4425 Cushing Parkway, San Jose, CA 94538.

VTech Electronics North America, LLC, 1155 W. Dundee, Suite 130, Arlington Heights, IL 60004.

VTech Holdings, Ltd., 23/F, Tai Ping Industrial Centre, Block 1, 57 Ting Kok Rd., Tai Po, New Territories, Hong Kong.

ViewSonic Corp., Ltd., 381 Brea Canyon Road, Walnut, CA 91789.

WowWee Group Ltd., Energy Plaza, 3F, 92 Granville Road, Tsim Sha Tsui East, Hong Kong.

WowWee USA, Inc., 5963 La Place Court, Suite 207, Carlsbad, CA 92008.

(c) The Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: May 13, 2011.
James R. Holbein,
Acting Secretary to the Commission.

[FR Doc. 2011-12293 Filed 5-18-11; 8:45 am]

BILLING CODE 7020-02-P